FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 31, 2018.

A. Federal Reserve Bank of Atlanta (Kathryn Haney, Assistant Vice President) 1000 Peachtree Street NE, Atlanta, Georgia 30309. Comments can also be sent electronically to Applications.Comments@atl.frb.org:

1. Rabun Beasley, Zachary Johnson, and Deborah Beasley Johnson, acting in concert with the R. Darrell Beasley group, all of Hazlehurst, Georgia; to retain voting shares of Hazlehurst Investors, Inc., and thereby retain shares of Bank of Hazlehurst both of Hazlehurst, Georgia.

Board of Governors of the Federal Reserve System, December 12, 2018.
Yao-Chin Chao,
Assistant Secretary of the Board.

[FR Doc. 2018-27247 Filed 12-14-18; 8:45 am]

BILLING CODE 6210-01-P